DEPARTMENT OF HEALTH AND HUMAN SERVICES

Health Resources and Services Administration

[Announcement Number: HRSA-04-003]

Rural Health Network Development Planning Grant Program—CFDA Number 93.912

AGENCY: Health Resources and Services Administration, HHS.

ACTION: Notice of availability of funds.

SUMMARY: The Health Resources and Services Administration (HRSA), Office of Rural Health Policy (ORHP), announces that approximately $1,000,000 in fiscal year (FY) 2004 funds is available to fund between 10 and 15 Rural Health Network Development Planning Grants. Eligibility is open to rural public or rural non-profit private entities as the lead applicant on behalf of a formative network or consortium of rural health providers. The proposed rural health network or consortium supported by the grant must include three or more health care providers, which may be nonprofit or for-profit entities. These grants will be awarded for a 1-year period.

DATES: Applications (PHS-5161-1 and supplemental material) will be available in July 2003 from the HRSA Grants Application Center (GAC) and must be received in the HRSA GAC at the address below by the close of business, September 10, 2003. Applications will meet the deadline if they are either: (1) Received on or before the deadline date; or (2) postmarked on or before the deadline date, and received in time for submission to the objective review panel. A legible, dated receipt from a commercial carrier or U.S. Postal Service will be accepted instead of a postmark. Private metered postmarks will not be accepted as proof of timely mailing. Applicants should note that HRSA anticipates having the capability to accept grant applications online in the last quarter of the Fiscal Year (July through September). Please refer to the HRSA grants schedule at http://www.hrsa.gov/grants.htm for more information.

ADDRESSES: To receive a complete application kit, applicants may telephone the HRSA Grants Application Center at 1-877-477-2123 and present the announcement number HRSA-04-003. All applications should be mailed or delivered to: Grants Management Officer, HRSA Grants Application Center, 901 Russell Avenue, Suite 450, Gaithersburg, MD 20879, telephone: 1-877-477-2123, e-mail: hrsagac@hrsa.gov.

FOR FURTHER INFORMATION CONTACT: Michele Pray-Gibson, 301-443-0835 (for questions specific to project activities of the program and program objectives); and Stephannie Young, 301-594-1246 (for grants policy, budgetary, and business questions.)

SUPPLEMENTARY INFORMATION:

Program Purpose/Objectives

This Rural Health Network Development (RHND) Planning Grant Program supports one year of planning to develop integrated health care networks in rural areas. The program is designed to support organizations that wish to develop formal collaborative relationships among health care providers to integrate systems of care administratively, clinically, financially, and technologically. The goal of the RHND Program is to achieve efficiencies; expand access to, coordinate, and improve the quality of essential health care services; and strengthen the rural health care system as a whole. The RHND Planning Grant Program supports this overall program goal by providing support to entities in the formative stages of planning and organizing a rural health network.

The RHND Planning Grant Program provides support to rural entities that seek to develop a formal health care network and that do not have a significant history of collaboration. Formative networks are not sufficiently evolved to apply for a 3-year RHND implementation grant and do not have a formalized structure. Existing networks that seek to expand services or expand their service area are not eligible to apply.

Applicants must propose to use the grant to develop rural health networks that bring together at least three separately owned health care providers. The applicant must demonstrate the need for the network and have identified one or more problems or issues that the network will address. The applying entity must have identified potential network partners and include a letter of support from each of the potential partners of the formative network.

The ultimate goal of the grant program is to strengthen the rural health care delivery system by improving the viability of the individual providers in the network. Networks funded through this program may also include entities that support the delivery of health care services like social service agencies, faith-based organizations, charitable organizations, educational institutions, employers, local governmental agencies or other entities. At least three of the partners that plan to participate in the network, however, must be health service providers. Grant funds may not be used for the direct delivery of services.

The grant support provided under the RHND Planning Grant program may be sufficient to jumpstart a network into becoming operational and developing strategies for becoming sustainable. Grantees of this program will be eligible to apply for up to three years of funding from the Rural Health Network Development Grant Program at a future time but are not required to do so. Applicants are not required to provide matching funds for the grant but are encouraged to engage the proposed network partners to participate in cost-sharing as demonstration of mutual commitment to the network.

Authorization

Awards will be made under the program authority of section 330A of the Public Health Service Act, 42 U.S.C. 254c.

Eligibility

To be eligible to receive a grant under this program, an applicant must be a rural public or rural non-profit private entity. To ascertain rural eligibility, please refer to http://ruralhealth.hrsa.gov/funding/eligibility.htm. The applicant must include letters of support from at least three or more health care providers that may be nonprofit or for-profit entities, that together intend to develop a rural health network. Under the President's initiative, faith-based and community-based organizations that are otherwise eligible and believe they can contribute to HRSA's program objectives are urged to apply to this program.

Funding Level/Project Period:

Contingent upon funding, approximately $1,000,000 in FY 2004 will be available to support the award of 10 to 15 grants for a one-year project period. Award amounts will range from $25,000 to $100,000 each.

Review Criteria

Applications that are complete and responsive to the guidance will be evaluated by an objective review panel specifically convened for this solicitation and in accordance with applicable policies and procedures. Applications for this grant program will be reviewed using the following criteria:

I. Statement of Need (30 Points)

A. The applicant demonstrates the need for Federal funding to support network development activities by describing the environment in which the network will develop and the appropriateness of applying for Federal funding at this point. The applicant provides evidence of the health care needs/problems in the community that the network proposes to address. The applicant utilizes appropriate data sources (e.g., local, state, federal) in their analysis of the environment in which the network is functioning.

If the purpose of the network is to strengthen health providers' ability to serve their community(ies), please include data that demonstrates the providers' needs for greater support in remaining healthy and sustainable.

B. The applicant clearly describes the primary goals and problems/issues to be addressed by the network. The applicant describes how the local community or region to be served will benefit from and be involved in the activities carried out by the network. If the network's primary goal is to strengthen health providers in the community, the applicant describes how providers will benefit from and be involved in the activities carried out by the network.

C. The applicant describes how the local community or region to be served will experience increased or more stable/consistent access to quality health care services across the continuum of care as a result of the integration and coordination of activities carried out by the network.

II. Identification of Potential Network Partners (30 Points)

A. The applicant provides a list or table listing each potential network partner. The table should include each partner's organization name, address, primary contact person, current role in the community/region, and current annual operating expenditure.

B. The applicant explains why these are the appropriate collaborators and why other organizations are not included as part of the formative network at this time. It is recognized that the purpose of the grant is to support development of the network; therefore, discussion could include identification of organizations not yet engaged but that might be candidates for collaboration should the grant be awarded.

C. The applicant describes any history of informal collaboration between the potential partners of the network and provides information regarding the impetus for the network's creation.

D. The applicant provides a map that shows the locations of potential network partners, and/or describes the geographic area that will be served by the network and any other information that will help reviewers visualize and understand the scope of the proposed project.

E. The applying entity must include a letter of support from each of the potential partners of the formative network. These letters should confirm each organization's interest in becoming part of a rural health network and indicate in their own words the organization's understanding of the benefits that the network would bring to itself and the community encompassed by the network. The letter should also include a statement indicating that the potential partner understands that the grant funds would be used for the development of a health care network and are not to be used for the exclusive benefit of any one network partner.

F. The applicant identifies the key person who will be accountable for ensuring grant-funded activities will be carried out. This person will serve to facilitate/convene potential network partners, set meeting agendas, assign and track tasks, etc.

G. The applicant includes a resume for the key person identified in II.E.

H. The applicant identifies the name and affiliation of the person(s) who wrote and prepared the grant application.

III. Statement of Project Workplan (25 Points)

A. The applicant includes a detailed workplan that describes how the grant funds will be used:

Part One: The applicant provides a matrix that carefully integrates goals, strategies, activities, and measurable outcomes and process measures. The matrix outlines the individual responsible for carrying out each activity and includes a timeline for the duration of the project. A sample matrix template will be provided in the application instructions.

Part Two: The applicant explains how the goals and activities outlined in the matrix will be accomplished in narrative format.

B. The applicant's workplan should either include a task that addresses each of the following four areas (or describes how each area is being addressed):

(1) Identifies potential collaborating network partners in addition to those already named in the grant application that provided letters of support.

(2) Convenes potential collaborating network partners.

(3) Conducts planning activities:

a. Conducts a needs assessment to ensure a complete understanding of the health care and provider-related challenges faced by the community/region to be served, and by the potential network partners.

b. Identifies the needs of potential network partners.

c. Identifies factors that will lead to the network's sustainability. This could include:

• Examining the benefits that may accrue to network members and the community they serve as a result of collaborative action and potential effects of inaction.

• Examining the strengths, weaknesses, and opportunities of potential network members and the communities they serve. d.Develops a business, operational, or strategic plan. e.Develops a plan for the network's sustainability. f.Carries out organizational development activities e.g., creating a formal Memorandum of Agreement/Understanding (MOA/MOU); establishing a network board; establishing bylaws; applying for 501(c)3 status, etc.

(4) Begins carrying out network activities, including activities to promote the network's sustainability.

Models That Work: If the application proposal is based upon another program that has worked in another community, please describe that program, why you think it will succeed in your community, what elements will be different in your community and how it was funded. There is particular interest in programs that may have received funding from the Department of Health and Human Services.

(5) Project Monitoring: The applicant describes measures to be implemented for assuring effective performance of the proposed project. The applicant describes on-going quality assurance/quality improvement strategies that will assist in the early identification and modification of ineffective project activities. For example, if one of the network's key strategies for reaching a network goal turns out to be ineffective, the applicant describes the measures in place to identify and address this situation.

IV. Budget (15 Points)

Applicants must provide details and justification for all items in the budget and explain the relevance of each cost to the overall goals and activities of the project. This includes a budget spreadsheet and a descriptive narrative justification that provides details for each budget item including contractual costs. The applicant illustrates that proposed grant funds will not be used to supplant funds already in place. The applicant is encouraged to include a description of funds already expended in support of networking activities.

V. Network Characteristics (5 Points)

Applicants that can demonstrate that their projects address any of the following criteria will receive a maximum of five additional points:

A. Projects that use telehealth and/or new and emerging technologies to help achieve their project goals. The advent of advanced communication tools such as distance learning, remote patient monitoring, personal data assistants (PDAs), interactive video, satellite broadcasting and store-and-forward technology are just some of the many health care focused technological applications that can help improve access to care either directly or indirectly by improving the efficiency of local health care providers; or

B. Projects that significantly address oral health care needs of the community to be served; or

C. Projects that significantly address mental health service needs of the community to be served; or

D. Projects in which the proposed network includes at least one Critical Access Hospital; or

E. Projects in which the proposed network does not include a facility that currently receives a DHHS-sponsored grant.

Funding Preference

The authorizing legislation for Network Development Planning Grants provides a funding preference for some applicants. Applicants receiving a preference will be placed in a more competitive position among the applications that can be funded. A funding preference will be given to any qualified applicant that can demonstrate either of the following two criteria:

A. Those applicants for which at least 50 percent of the proposed rural health network's service area is located in officially designated health professional shortage areas (HPSAs) or medically underserved communities (MUCs) or serve medically underserved populations (MUPs).

To ascertain HPSA and MUP designation status, please refer to the following Web site: http://bhpr.hrsa.gov/shortage/index.htm.

To qualify as a Medically Underserved Community (MUC), at least 50 percent of the network's participation must include facilities that are federally designated as any of the following:

(a) Community Health Centers,

(b) Migrant Health Centers,

(c) Health Care for the Homeless Grantees,

(d) Public Housing Primary Care Grantees,

(e) Rural Health Clinics,

(f) National Health Service Corps sites,

(g) Indian Health Service Sites,

(h) Federally Qualified Health Centers,

(i) Primary Medical Care Health Professional Shortage Areas,

(j) Dental Health Professional Shortage Areas,

(k) Nurse Shortage Areas,

(l) State or Local Health Departments,

(m) Ambulatory practice sites designated by State Governors as serving medically underserved communities; or

B. Those applicants whose projects focus on primary care, and wellness and prevention strategies.

To receive a funding preference, applicants must clearly identify and demonstrate which preference they are requesting as instructed in the program guidance and application instructions.

Executive Order 12372

This grant program is subject to Executive Order 12372, which requires applicants to seek comments on the application from their State Single Point of Contact (SPOC) unless the applicant is a Federally recognized Indian tribal government or the State does not participate in this process. A list of State SPOCs and the non-participating States is included with the application kit and is also available at http://www.whitehouse.gov/omb/grants/spoc.html. In general, SPOCs are State agents that review grant applications to determine if they are in accordance with State policy. Applicants in States with a SPOC must contact the SPOC about the application and receive any instructions on the State process. Further, applicants in participating States must submit a copy of the application to the SPOC no later than the Federal application receipt deadline.

Dated: July 3, 2003.
Elizabeth M. Duke,
Administrator.

[FR Doc. 03-19443 Filed 7-30-03; 8:45 am]

BILLING CODE 4165-15-P